EXPORT-IMPORT BANK OF THE UNITED STATES

Intent To Conduct a Detailed Economic Impact Analysis

AGENCY: Export-Import Bank.

ACTION: Notice.

SUMMARY: Pursuant to the Charter of the Export-Import Bank of the United States, this notice is to inform the public that the Export-Import Bank of the United States has received an application for a $49.06 million long-term loan (or loan guarantee) to support the export of approximately $36.34 million worth of U.S. engineering services and refining equipment. The U.S. goods and services will be exported to Indonesia and expand production capacity of refined petroleum. Added capacity from the project is anticipated to produce an additional 100.4 thousand barrels per day of gasoline and 225 thousand metric tons per year of propylene. Produced gasoline and propylene are anticipated to be consumed in Indonesia.

DATES: Comments are due 14 days from publication in the Federal Register.

ADDRESSES: Interested parties may submit comments on this transaction electronically on www.regulations.gov, or by email to economic.impact@exim.gov.

Eric Larger,
Office of Policy Analysis and International Relations.

[FR Doc. 2022-19164 Filed 9-2-22; 8:45 am]

BILLING CODE 6690-01-P